DEPARTMENT OF JUSTICE

Antitrust Division

Notice Pursuant to the National Cooperative Research and Production Act of 1993—Silicon Integration Initiative, Inc.

Notice is hereby given that, on September 28, 2015, pursuant to section 6(a) of the National Cooperative Research and Production Act of 1993, 15 U.S.C. 4301 et seq. (“the Act”), Silicon Integration Initiative, Inc. (“Si2”) filed written notifications simultaneously with the Attorney General and the Federal Trade Commission disclosing changes in its membership. The notifications were filed for the purpose of extending the Act's provisions limiting the recovery of antitrust plaintiffs to actual damages under specified circumstances. Specifically, Advanced Micro Devices, Sunnyvale, CA; The National Institute of Advanced Industrial Science and Technology (AIST), Tokyo, JAPAN; Altera, San Jose, CA; ams AG, Unterpremstaetten, AUSTRIA; AnaGlobe Technology, Inc., Hsinchu, TAIWAN; Analog Devices, Inc., Norwood, MA; ANSYS, Inc., Canonsburg, PA; ARM, Cambridge, UNITED KINGDOM; Atoptech, Inc., Santa Clara, CA; Aurrion, Inc., Santa Barbara, CA; Avago Technologies, Inc., San Jose, CA; AWR/National Instruments Corporation, Austin, TX; Berkeley Wireless Research Center, Berkley, CA; Blackcomb Design Automation, Inc., Vancouver, CANADA; Broadcom Corporation, Irvine, CA; Concept Engineering GmbH, Freiburg, GERMANY; Coupling Wave Solutions, Grenoble, FRANCE; Computer Simulation Technology (CST), Darmstadt, GERMANY; Denso, Kariya, JAPAN; Dolphin Integration, Grenoble, FRANCE; eASIC Corporation, Santa Clara, CA; EDXACT, Voiron, FRANCE; Entasys Design, Seoul, REPUBLIC OF KOREA; Fractal Technologies, Los Gatos, CA; Fraunhofer Institute for Integrated Circuits IIS, Dresden, GERMANY; GLOBALFOUNDRIES, Santa Clara, CA; Huada Empyrean Software Co. Ltd./ICScape, Beijing, PEOPLE'S REPUBLIC OF CHINA; IMEC, Leuven, BELGIUM; Infineon Technologies, Nuebiberg, GERMANY; Jedat, Tokyo, JAPAN; Kenji Morohashi, Yokohama, JAPAN; Keysight Technologies, Santa Rosa, CA; Lattice Semiconductor Limited, Portland, OR; Luceda N.V., Dendermonde, BELGIUM; Lumerical Solutions, Inc., Vancouver, CANADA; Marvell Semiconductor, Inc., Santa Clara, CA; MediaTek, Hsinchu, TAIWAN,; Micron Technology, Inc., Folsom, CA; Monozukuri S.p.A., Rome, ITALY; NXP Semiconductors, Eindhoven, THE NETHERLANDS; Oracle, Redwood City, CA; PDF Solutions, Inc., San Jose, CA; Peregrine Semiconductor Corporation, San Diego, CA; Phoenix Software, Enschede, THE NETHERLANDS; ProPlus Design Solutions, San Jose, CA; Pulsic Limited, Bristol, UNITED KINGDOM; Qorvo, Inc., Richardson, TX; Qualcomm, Inc., San Diego, CA; Raytheon Company, Waltham, MA; Robust Chip Inc., Pleasanton, CA; Sage Design Automation, Santa Clara, CA; Samsung Electronics Co., Ltd., Hwasung-City, REPUBLIC OF KOREA; Sandia National Laboratories, Albuquerque, NM; Silicon Frontline Technology, Campbell, CA; SiConTech, Inc., Austin, TX; Silvaco, Inc., Santa Clara, CA; SK Hynix, Inc., Icheon-si, REPUBLIC OF KOREA; Sony, Tokyo, JAPAN; Spectral Design & Test, Inc., Somerville, NJ; Semiconductor Technology Academic Research (STARC), Yokohama, JAPAN; Synopsys, Inc., Mountain View, CA; Taiwan Semiconductor Manufacturing Company Limited (TSMC), Hsinchu, TAIWAN; Teklatech A/S, Copenhagen, DENMARK; Texas Instruments, Dallas, TX; Thales Group, Paris, FRANCE; Tool Corporation, Tokyo, JAPAN; Toshiba Corporation, Kawasaki, JAPAN; Tyndall National Institute, Cork City, IRELAND; United Microelectronics Corporation (UMC), Hsinchu City, TAIWAN; and Zuken, Inc., Yokohama, JAPAN, have been added as parties to this venture.

Also, Chipdata, Inc., Richardson, TX; Electronic Tools Co., Sonoma, CA; Ericsson, Stockholm, SWEDEN; Fujitsu Ltd., Sunnyvale, CA; Monterey Design Systems, Inc., Sunnyvale, CA; Multi-Gig Limited, Wellingborough, UNITED KINGDOM; Semiconductor Research Corporation (SRC), Research Triangle Park, NC; Motorola, Inc., Tempe, AZ; and Sagantec, Fremont, CA, have withdrawn as parties to this venture.

No other changes have been made in either the membership or planned activity of the group research project. Membership in this group research project remains open, and Si2 intends to file additional written notifications disclosing all changes in membership.

On December 30, 1988, Si2 filed its original notification pursuant to section 6(a) of the Act. The Department of Justice published a notice in the Federal Register pursuant to section 6(b) of the Act on March 13, 1989 (54 FR 10456).

The last notification was filed with the Department on July 30, 2003. A notice was published in the Federal Register pursuant to section 6(b) of the Act on August 29, 2003 (68 FR 52057).

Patricia A. Brink,
Director of Civil Enforcement, Antitrust Division.

[FR Doc. 2015-29057 Filed 11-13-15; 8:45 am]

BILLING CODE P